MORRIS K. UDALL AND STEWART L. UDALL FOUNDATION

Sunshine Act Meetings

TIME AND DATE: 9:00 a.m. to 4:00 p.m., Thursday, October 16, 2014.

PLACE: The offices of the Morris K. Udall and Stewart L. Udall Foundation, 130 South Scott Avenue, Tucson, AZ 85701.

STATUS: This meeting of the Board of Trustees will be open to the public, unless it is necessary for the Board to consider items in executive session.

MATTERS TO BE CONSIDERED: (1) Chair's Remarks and Appropriations Update; (2) Consent Agenda Approval, including the Minutes of the April 24, 2014, Board of Trustees Meeting, the Udall Center for Studies in Public Policy Workplan, and resolutions regarding Allocation of Funds to the Udall Center for Studies in Public Policy; Transfer of Funds to the Native Nations Institute for Leadership, Management, and Policy; and the Parks in Focus Fund, Inc., Bylaws; (3) Election of Secretary of the Board; (4) Election of Trustee to the Executive Committee; (5) Executive Director's Remarks and Financial and Management Report; (6) Internal Controls Update; (7) U.S. Institute for Environmental Conflict Resolution Report and Discussion; (8) Communications Discussion and Udall Foundation Web site; (9) Native Nations Institute Report; (10) Education Programs Report; and (11) Internal Personnel Matters.

PORTIONS OPEN TO THE PUBLIC: All agenda items except as noted below.

PORTIONS CLOSED TO THE PUBLIC: Executive Session to Discuss Internal Personnel Matters.

CONTACT PERSON FOR MORE INFORMATION: Philip J. Lemanski, Executive Director, 130 South Scott Avenue, Tucson, AZ 85701, (520) 901-8500.

Dated: September 19, 2014.
Elizabeth E. Monroe,
Executive Assistant, Morris K. Udall and Stewart L. Udall Foundation, and Federal Register Liaison Officer.

[FR Doc. 2014-22811 Filed 9-22-14; 11:15 am]

BILLING CODE 6820-FN-P